DEPARTMENT OF COMMERCE

National Oceanic and Atmospheric Administration

50 CFR Part 660

[Docket No. 140904754-5188-02]

RIN 0648-BG08

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to attain their allocations and maintain year-round fishing opportunities while keeping harvest within the annual catch limit (ACL) for sablefish north 36° N. lat.

DATES: This final rule is effective June 28, 2016.

FOR FURTHER INFORMATION CONTACT: Gretchen Hanshew, phone: 206-526-6147, fax: 206-526-6736, or email: gretchen.hanshew@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Chuck Tracy, Acting Executive Director, Pacific Fishery Management Council (Council), 7700 NE Ambassador Place, Portland, OR 97220, phone: 503-820-2280.

Background

Changes to Trip Limits the Limited Entry Fixed Gear and Open Access Sablefish Daily Trip Limit Fisheries North of 36° N. lat.

The best available fisheries information indicates that catch of sablefish in the commercial non-trawl fisheries north of 36° N. lat. in 2016 will be higher than anticipated. The Council considered updated projections and the status of ongoing groundfish fisheries at its March 9-14, 2016, and April 9-14, 2016, meetings. The Council considered 2015 fishery harvest estimates and fishery models, updated with the best estimate reports from the Pacific Fishery Information Network through February 28, 2016.

At its March meeting, the Council considered updated projections, indicating that sablefish landings through the end of the year would exceed the sablefish allocation in the limited entry fixed gear daily trip limit (DTL) fishery north of 36° N. lat. Projected landings in the limited entry fixed gear DTL fishery north of 36° N. lat. vary based on assumptions on the price per pound. If no action is taken—and this higher than anticipated catch continues in the limited entry fixed gear DTL fishery—then projected landings range from 90 percent of the allocation (low price assumption) to over 100 percent of the allocation (high price assumption) through the end of the year. In recent years, the Council has taken a precautionary approach to setting trip limits at the start of the year. Setting trip limits to target approximately 90 percent attainment of the allocation allows for flexibility to increase trip limits later in the year if harvest remains at or lower than anticipated levels, and also reduces the risk of early closure if catches are higher than anticipated. The Council considered a modest decrease to the weekly limit in the limited entry fixed gear DTL fishery north of 36° N. lat. With a slightly smaller weekly limit, harvest estimates through the end of the year were reduced to between 81 and 93 percent of the allocation (under low and high price per pound assumptions, respectively).

The Council recommended and NMFS is implementing a reduction in the weekly limit for sablefish in the limited entry fixed gear fishery north of 36° N. lat. from “1,275 lb per week, not to exceed 3,375 lb per two months” to “1,125 lb per week, not to exceed 3,375 lb per two months.”

At its April meeting, the Council considered 2015 fishery performance, status of ongoing fisheries in 2016, updated projections, and requests from industry regarding the open access DTL fishery north of 36° N. lat. Harvest of sablefish in the open access DTL fishery north of 36° N. lat. exceeded its allocation in 2015. Industry raised concerns that participation levels seen in 2015 may further increase in 2016 due to a predicted poor salmon fishing season and lack of a Dungeness crab fishery off California. If no action is taken and this higher than anticipated catch continues in the open access DTL fishery, landings through the end of the year are projected to be 70 percent of the allocation. The Council considered these updated projections, and concerns and recommendations from industry representatives. Based on public testimony, there is anecdotal evidence of a sharp increase in participation in this fishery, particularly in southern Oregon and northern California ports. Industry representatives recommended a precautionary decrease in trip limits beginning July 1 to slow landings and maintain year-round fishing opportunities. The Council considered a precautionary reduction to open access DTL trip limits to maintain harvest opportunities throughout the year even under much higher participation levels.

The Council recommended and NMFS is implementing a reduction in the trip limit for sablefish in the open access fishery north of 36° N. lat. from “300 lb per day, or one landing per week of up to 1,000 lb, not to exceed 2,000 lb per two months” to “300 lb per day, or one landing per week of up to 850 lb, not to exceed 1,700 lb per two months,” beginning July 1, 2016.

Decreases to trip limits in the limited entry fixed gear and open access DTL fisheries north of 36° N. lat. are intended to allow year-round fishing opportunities and reduce the risk of closure as occurred in 2015 (when the limited entry fixed gear and open access DTL fisheries north of 36° N. lat. were both closed on November 1, reducing the season length by two months).

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective June 28, 2016.

The Council recommended that these changes be implemented as quickly as possible to reduce harvest of sablefish in the limited entry fixed gear and open access DTL fisheries north of 36° N. lat. based in information available at its March and April meetings. There was not sufficient time after those meetings to draft this document and undergo proposed and final rulemaking before this action needs to be in effect. For the action to be implemented in this final rule, affording the time necessary for prior notice and opportunity for public comment would prevent NMFS from managing fisheries using the best available science to approach, without exceeding, the sablefish ACLs in accordance with the PCGFMP and applicable law. These adjustments to management measures must be implemented in a timely manner to prevent the 2016 sablefish north 36° N. lat. allocations from being exceeded and help ensure year-round fishing opportunities, consistent with objectives of the PCGFMP. No aspect of this action is controversial, and changes of this nature were anticipated in the groundfish biennial harvest specifications and management measures established for 2015-2016.

Accordingly, for the reasons stated above, NMFS finds good cause to waive prior notice and comment and to waive the delay in effectiveness.

List of Subjects in 50 CFR Part 660

Fisheries, Fishing, and Reporting and recordkeeping requirements.

Dated: June 22, 2016.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2 (North) and 2 (South) to part 660, subpart E, are revised to read as follows:

BILLING CODE 3510-22-P

3. Table 3 (North) and 3 (South) to part 660, subpart F, are revised to read as follows:

[FR Doc. 2016-15155 Filed 6-27-16; 8:45 a.m.]

BILLING CODE 3510-22-C